COMMITTEE FOR PURCHASE FROM PEOPLE WHO ARE BLIND OR SEVERELY DISABLED

Procurement List: Addition and Deletions

AGENCY: Committee for Purchase from People Who Are Blind or Severely Disabled.

ACTION: Addition to and Deletions from the Procurement List.

SUMMARY: This action adds to the Procurement List a service to be furnished by nonprofit agencies employing persons who are blind or have other severe disabilities, and deletes from the Procurement List products and services previously furnished by such agencies.

DATES: Effective Date: April 6, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Addition:

On January 11, 2008, the Committee for Purchase From People Who Are Blind or Severely Disabled published notice (73 FR 2003) of proposed additions to the Procurement List.

After consideration of the material presented to it concerning capability of qualified nonprofit agencies to provide the service and impact of the addition on the current or most recent contractors, the Committee has determined that the service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the services to the Government.

3. There are no known regulatory alternatives which would accomplish the objectives of the Javits-Wagner-O'Day Act (41 U.S.C. 46-48c) in connection with the service proposed for addition to the Procurement List.

End of Certification

Accordingly, the following service is added to the Procurement List:

Service:

Service Type/Location: Warehousing & Distribution of the IRS Incentive Awards for BRAVO! Awards Program, Internal Revenue Service Business Operations Offices, 333 Market Street, San Francisco, CA

NPA: Bobby Dodd Institute, Inc., Atlanta, GA

Contracting Activity: Department of the Treasury, Internal Revenue Service, San Francisco, CA

Deletions:

On January 4 and January 11, 2008, the Committee for Purchase From People Who Are Blind or Severely Disabled published notice (73 FR 841; 2004) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products:

Cover, Map

NSN: 8460-00-287-2137

NSN: 8460-00-287-2140

NPA: Goodwill Industries of the Valleys, Inc., Roanoke, VA

Contracting Activity: Defense Supply Center Philadelphia, Philadelphia, PA

Pencil, Mechanical, Bold Point

NSN: 7520-01-354-2304

NPA: San Antonio Lighthouse for the Blind, San Antonio, TX

Contracting Activity: General Services Administration, Office Supplies & Paper Products Acquisition Ctr., New York, NY

Services:

Service Type/Location: Janitorial/Custodial, Federal Aviation Administration Facilities, Albany County Airport, Albany, NY

NPA: Albany County Chapter, NYSARC, Inc., Slingerlands, NY

Contracting Activity: Federal Aviation Administration, John F. Kennedy International Airport, Jamaica, NY

Service Type/Location: Janitorial/Mechanical Maintenance, U.S. Federal Building, U.S. Post Office, 403 West Lewis Street, Pasco, WA

NPA: Columbia Industries, Kennewick, WA

Contracting Activity: General Services Administration, Public Buildings Service, Region 10

Kimberly M. Zeich,
Director, Program Operations.

[FR Doc. E8-4538 Filed 3-6-08; 8:45 am]

BILLING CODE 6353-01-P